DEPARTMENT OF COMMERCE

National Oceanic and Atmospheric Administration

RIN 0648-XC425

Endangered and Threatened Species; Take of Anadromous Fish

AGENCY: National Marine Fisheries Service (NMFS), National Oceanic and Atmospheric Administration (NOAA), Commerce.

ACTION: Applications for two new scientific research permits and four research permit renewals.

SUMMARY: Notice is hereby given that NMFS has received six scientific research permit application requests relating to Pacific salmon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on February 7, 2013.

ADDRESSES: Written comments on the applications should be sent to the Protected Resources Division, NMFS, 1201 NE Lloyd Blvd., Suite 1100, Portland, OR 97232-1274. Comments may also be sent via fax to 503-230-5441 or by email to nmfs.nwr.apps@noaa.gov.

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): endangered upper Columbia River (UCR); threatened Snake River (SR) spring/sum (spr/sum); threatened SR fall;

Steelhead (O. mykiss): threatened UCR; threatened SR; threatened middle Columbia River (MCR).

Sockeye salmon (O. nerka): endangered SR.

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1124—5R

The Idaho Department of Fish and Game (IDFG) is seeking to renew for five years a permit under which they have been conducting six research projects in the Snake River basin for more than 10 years. The permit would continue to cover the following actions: One general fish population inventory; one project designed to monitor fish health throughout the state; two projects looking at natural and hatchery Chinook salmon production (in which sockeye may rarely be captured); one project monitoring natural steelhead; and one project centering on recovering sockeye salmon in Idaho. Much of the work being conducted under these projects is covered by other ESA authorizations; the work contemplated here is only the work that may affect sockeye salmon. The purposes of the research are therefore to monitor listed salmonid health, help guide sockeye salmon recovery operations, and out rightly rescue sockeye salmon in need of help due to circumstances such as being trapped by low flows. The benefits to the salmon will come in the form of information to help guide resource managers in restoring the listed fish and, as stated, in directly rescuing them from peril. The fish would be captured by various methods-screw traps, electrofishing, hook-and-line-angling, mid-water trawl-and most would immediately be released. A few of the captured fish may die as a result of the research.

Permit 1134—6R

The Columbia River Inter-Tribal Fish Commission (CRITFC) is seeking to renew for five years a permit under which they have been conducting research for nearly 15 years. The permit would continue covering five study projects that, among them, would annually take adult and juvenile threatened SR fall Chinook salmon, adult and juvenile threatened SR spring/summer Chinook salmon, and adult and juvenile threatened SR steelhead in the Snake River basin. There have been some changes in the research over the last ten years; nonetheless, the projects proposed are largely continuations of ongoing research. They are: Project 1—Adult Spring/summer and Fall Chinook Salmon and Summer Steelhead Ground and Aerial Spawning Ground Surveys; Project 2—Cryopreservation of Spring/summer Chinook Salmon and Summer Steelhead Gametes; Project 3—Adult Chinook Salmon Abundance Monitoring Using Video Weirs, Acoustic Imaging, and PIT tag Detectors in the South Fork Salmon River; Project 4—Snorkel, Seine, fyke net, Minnow Trap, and Electrofishing Surveys and Collection of Juvenile Chinook Salmon and Steelhead; and Project 5—Juvenile Anadromous Salmonid Emigration Studies Using Rotary Screw Traps. Under these tasks, listed adult and juvenile salmon would be variously (1) observed/harassed during fish population and production monitoring surveys; (2) captured (using seines, trawls, traps, hook-and-line angling equipment, and electrofishing equipment) and anesthetized; (3) sampled for biological information and tissue samples, (4) PIT-tagged or tagged with other identifiers, (5) and released.

The research has many purposes and would benefit listed salmon and steelhead in different ways. However, in general, the studies are part of ongoing efforts to monitor the status of listed species in the Snake River basin and to use those data to inform decisions about land- and fisheries management actions and to help prioritize and plan recovery measures for the listed species. Under the proposal, the studies would continue to benefit listed species by generating population abundance estimates, allowing comparisons to be made between naturally reproducing populations and those being supplemented with hatchery fish, and helping preserve listed salmon and steelhead genetic diversity. The CRITFC does not intend to kill any of the fish being captured, but a small percentage may die as a result of the research activities.

Permit 1480—3R

The United States Geological Survey (USGS) is seeking to renew for five years a permit under which they have been conducting research for more than a decade. The renewed permit would continue to allow the USGS to annually take adult and juvenile endangered UCR Chinook and threatened UCR steelhead in nine tributaries to the Methow River (and its mainstem) in Washington State. The purpose of the research is to monitor the contribution these streams make to Chinook and steelhead production in the Methow subbasin—both before and after human-made passage barriers in the streams have been removed. The research would benefit the fish by generating information on the effectiveness of such restoration actions in the area and that information, in turn, would be used to guide other such efforts throughout the region. The USGS proposes to capture the fish—using weirs/traps, nets, and electrofishing equipment—anesthetize them, PIT-tag them (if they are large enough), allow them to recover, and release them. Several instream PIT-tag interrogation sites would be put into place to monitor the fish in the tributaries. In addition, tissue samples would be taken from some of the fish. The USGS does not intend to kill any of the fish being captured, but a small percentage may die as an unintended result of the research activities.

Permit 13380—2R

The NWFSC is seeking to renew for five years a permit that currently allows them to annually take natural juvenile SR spring/summer Chinook salmon and SR steelhead in the Salmon River subbasin in Idaho. This research has been in progress for over ten years and is designed to assess three alternative methods of nutrient enhancement (Salmon carcasses, carcass analogues, and nutrient pellets) on biological communities in Columbia River tributaries. In general, the purpose of the research is to learn how salmonids acquire nutrients from the carcasses of dead spawners and test three methods of using those nutrients to increase growth and survival among naturally produced salmonids. The research would benefit the fish by helping managers use nutrient enhancement techniques to recover listed salmonid populations. Moreover, managers would gain a broader understanding of the role marine-derived nutrients play in ecosystem health as a whole. This, in turn, would help inform management decisions and actions intended to help salmon recovery in the future.

Under the proposed research, the fish would variously be (a) captured (using seines, nets, traps, and possibly, electrofishing equipment) and anesthetized; (b) measured, weighed and fin-clipped; (c) held for a time in enclosures in the stream from which they are captured; and (d) released. A number of the captured fish would also be intentionally killed so the researchers may conduct stable isotope, otolith, and diet analyses with the purpose of linking growth and survival to habitat conditions. It is also likely that a small percentage of the fish being captured would unintentionally be killed during the process; in such instances, any unintentional mortalities would be used in place of any fish that would otherwise be lethally taken. In addition, tissue samples would be taken from adult carcasses.

Permit 16979

The Washington Department of Fish and Wildlife (WDFW) is seeking a five-year permit to collect data on UCR Chinook and steelhead abundance, status, distribution, diversity, species/ecological interactions, and behavior in the Columbia River from its confluence with the Yakima River upstream to Chief Joseph Dam. The research will benefit fish by helping managers (a) understand the distribution and proportion of hatchery and natural origin steelhead, and Chinook in UCR tributaries, (b) understand the influences of other biotic and abiotic factors with respect to recovering listed species, (c) understand the potential effects of proposed land use practices, (d) determine appropriate regulatory and habitat protection measures in the areas where land use actions are planned, (e) project the impacts of potential hydraulic projects, and (f) evaluate the effectiveness of local forest practices and instream habitat improvement projects in terms of their ability to protect and enhance listed salmonid populations.

The researchers would capture fish via a wide variety of means (snorkeling, dip netting, seining, using electrofishing equipment, traps and weirs, and barbless hook-and-line sampling). The captured fish would be variously tissue sampled, measured, tagged, allowed to recover, and released. The researchers do not intend to kill any of the fish being captured, but a small percentage of them may inadvertently be killed as a result of the proposed activities.

Permit 17306

The Oregon Department of Fish and Wildlife (ODFW) is seeking a five-year permit to capture threatened MCR steelhead (adults and juveniles) in the upper Deschutes River, Oregon. The various proposed activities would include adult and juvenile snorkel surveys throughout the basin, screw trapping, backpack and boat electrofishing and mark/recapture studies, hook and line surveys, telemetry, seining, spawning ground surveys using weirs and redd counts, monitoring habitat restoration projects, and setting traps and nets in reservoirs for population monitoring. Data collected from this work would be used to inform management decisions. Biologists from the ODFW have been conducting this work in the area for decades without the need for a permit, but since threatened MCR steelhead have recently been reintroduced to the area, they are seeking a permit that would allow them to continue it. The researchers do not intend to kill any of the fish being captured, but a small percentage may be killed as an inadvertent result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Angela Somma,
Chief, Endangered Species Division, Office of Protected Resources, National Marine Fisheries Service.

[FR Doc. 2013-00138 Filed 1-7-13; 8:45 am]

BILLING CODE 3510-22-P